DEPARTMENT OF ENERGY

Federal Energy Regulatory Commission

Combined Notice of Filings #1

January 24, 2007.

Take notice that the Commission received the following electric corporate filings:

Docket Numbers: EC06-155-000.

Applicants: Consumers Energy Company; Entergy Nuclear Palisades, LLC.

Description: Consumers Energy Company and Entergy Nuclear Palisades, LLC submit a Response to Request for Information, pursuant to the Commission's 12/27/06 order.

Filed Date: 1/12/2007.

Accession Number: 20070112-5065.

Comment Date: 5 p.m. Eastern Time on Wednesday, January 31, 2007.

Take notice that the Commission received the following electric rate filings:

Docket Numbers: ER96-1088-039; ER03-674-006.

Applicants: WPS Energy Services, Inc.; Quest Energy, LLC.

Description: WPS Energy Services, Inc. and Quest Energy, LLC submit a Notice of Change of Status for Market-Based Rate Authorization.

Filed Date: 1/17/2007.

Accession Number: 20070117-5015.

Comment Date: 5 p.m. Eastern Time on Wednesday, February 7, 2007.

Docket Numbers: ER00-2268-021; ER99-4124-017; ER99-4122-021.

Applicants: Pinnacle West Capital Corporation; Arizona Public Service Company; APS Energy Services Company, Inc.

Description: Pinnacle West Capital Corp, Arizona Public Service Co and APS Energy Services Co, Inc submit a notice of non-material change in status of generation capacity.

Filed Date: 1/19/2007.

Accession Number: 20070123-0133.

Comment Date: 5 p.m. Eastern Time on Friday, February 9, 2007.

Docket Numbers: ER01-1807-025; ER01-2020-022.

Applicants: Carolina Power & Light Company; Florida Power Corporation.

Description: Carolina Power and Light Co. submits its Energy Imbalance Revenues Refund Report pursuant to the Commission's 5/21/03 Order.

Filed Date: 1/22/2007.

Accession Number: 20070122-5001.

Comment Date: 5 p.m. Eastern Time on Monday, February 12, 2007.

Docket Numbers: ER02-1472-008; EL02-88-005; EL03-3-004; EL03-4-003; ER02-1151-007; EL03-5-003; ER02-1069-007; EL03-13-003; ER02-2243-006.

Applicants: Entergy Services Inc.

Description: Entergy Services, Inc agent for Entergy Arkansas, Inc et al. submits a compliance filing consisting of revised Interconnection and Operating Agreement with Wrightsville Power Facility, LLC et al., pursuant to the Commission's 12/18/06 order.

Filed Date: 1/17/2007.

Accession Number: 20070123-0125.

Comment Date: 5 p.m. Eastern Time on Wednesday, February 7, 2007.

Docket Numbers: ER03-719-005; ER03-720-005; ER03-721-005; ER98-830-014.

Applicants: New Athens Generating Company, LLC; New Covert Generating Company, LLC; New Harquahala Generating Company; Millennium Power Partners, L.P.

Description: New Athens Generating Co, LLC et al., submits a notice of non-material change in status.

Filed Date: 1/19/2007.

Accession Number: 20070123-0086.

Comment Date: 5 p.m. Eastern Time on Friday, February 9, 2007.

Docket Numbers: ER04-925-014.

Applicants: Merrill Lynch Commodities, Inc.

Description: Merrill Lynch Commodities, Inc. submits a change in status, pursuant to the Commission's order issued 7/20/04.

Filed Date: 1/22/2007.

Accession Number: 20070123-0136.

Comment Date: 5 p.m. Eastern Time on Monday, February 12, 2007.

Docket Numbers: ER05-1410-003; EL05-148-003.

Applicants: PJM Interconnection, LLC.

Description: PJM Interconnection, LLC submits revisions to its PJM OATT and the Reliability Assurance Agreement among Load-Serving Entities.

Filed Date: 1/22/2007.

Accession Number: 20070123-0131.

Comment Date: 5 p.m. Eastern Time on Monday, February 12, 2007.

Docket Numbers: ER06-731-004.

Applicants: Midwest Independent Transmission System Operator, Inc.

Description: Midwest Independent Transmission System Operator, Inc submits revisions to its OAT&EMT, pursuant to the Commission's 12/21/06 order.

Filed Date: 01/22/2007.

Accession Number: 20070123-0134.

Comment Date: 5 p.m. Eastern Time on Monday, February 12, 2007.

Docket Numbers: ER06-1218-003.

Applicants: PJM Interconnection, LLC.

Description: PJM Interconnection, LLC in compliance with FERC's 12/22/06 Order, submits revisions to Schedule 1 of the Amended and Restated Operating Agreement.

Filed Date: 1/22/2007.

Accession Number: 20070123-0132.

Comment Date: 5 p.m. Eastern Time on Monday, February 12, 2007.

Docket Numbers: ER06-1432-002.

Applicants: Commonwealth Edison Company.

Description: Commonwealth Edison Co. submits additional information, pursuant to the Commission's order issued 12/20/06.

Filed Date: 1/19/2007.

Accession Number: 20070123-0135.

Comment Date: 5 p.m. Eastern Time on Friday, February 9, 2007.

Docket Numbers: ER07-95-002.

Applicants: Midwest Independent Transmission System Operator, Inc.; Michigan Electric Transmission Company, LLC.

Description: Michigan Electric Transmission Co, LLC et al., submits revised tariff sheets to FERC Electric Tariff, Third Revised Vol. No. 1.

Filed Date: 1/22/2007.

Accession Number: 20070123-0137.

Comment Date: 5 p.m. Eastern Time on Monday, February 12, 2007.

Docket Numbers: ER07-122-001.

Applicants: Interstate Power & Light Company; Alta Vista, Iowa; Dundee, Minnesota; Grafton, Iowa; Guttenburg, Iowa; Hanover, Illinois; Sabula, Iowa; West Point, Iowa; Jo-Carroll Energy, Inc.

Description: Interstate Power and Light Company et al., submits an Explanatory Statement and Settlement Agreement concerning its wholesale rates.

Filed Date: 1/22/2007.

Accession Number: 20070123-0088.

Comment Date: 5 p.m. Eastern Time on Monday, February 12, 2007.

Docket Numbers: ER07-253-001.

Applicants: E.ON U.S. LLC.

Description: E.ON U.S., LLC on behalf of Louisville Gas and Electric Company et al. submits amended Umbrella Point-to-Point Service Agreements w/East Kentucky Power Cooperative pursuant to letter order issued on 12/21/06.

Filed Date: 1/22/2007.

Accession Number: 20070123-0130.

Comment Date: 5 p.m. Eastern Time on Monday, February 12, 2007.

Docket Numbers: ER07-447-000.

Applicants: California Independent System Operator, Inc.

Description: California Independent System Operator, Inc. submits a request for waiver of tariff provision.

Filed Date: 1/19/2007.

Accession Number: 20070123-0087.

Comment Date: 5 p.m. Eastern Time on Friday, February 9, 2007.

Docket Numbers: ER07-449-000.

Applicants: Ritchie Energy Products, LLC

Description: Ritchie Energy Products, LLC submits a Notice of Cancellation of First Revised Sheet 1 to their market-based rate tariff.

Filed Date: 1/22/2007.

Accession Number: 20070123-0139.

Comment Date: 5 p.m. Eastern Time on Monday, February 12, 2007.

Docket Numbers: ER07-450-000.

Applicants: Midwest Independent Transmission System Operator, Inc.

Description: Midwest Independent Transmission System Operator, Inc. submits its proposed revisions to Attachment P contained in its Open Access Transmission and Energy Markets Tariff, FERC Electric Tariff, Third Revised Volume 1.

Filed Date: 01/22/2007.

Accession Number: 20070123-0138.

Comment Date: 5 p.m. Eastern Time on Monday, February 12, 2007.

Take notice that the Commission received the following electric securities filings:

Docket Numbers: ES07-16-000.

Applicants: MDU Resources Group, Inc.

Description: MDU Resources Group, Inc. submits an application for authority to issue short-term debt securities in the aggregate principal amount of up to $310,000,000 in the form of one or more promissory note.

Filed Date: 1/22/2007.

Accession Number: 20070123-0141.

Comment Date: 5 p.m. Eastern Time on Monday, February 12, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E7-1481 Filed 1-30-07; 8:45 am]

BILLING CODE 6717-01-P